DEPARTMENT OF HOMELAND SECURITY

Coast Guard

[Docket No. USCG-2022-0579]

National Merchant Marine Personnel Advisory Committee; Vacancy

AGENCY: Coast Guard, Department of Homeland Security.

ACTION: Request for applications.

SUMMARY: The U.S. Coast Guard is accepting applications to fill one vacancy on the National Merchant Marine Personnel Advisory Committee (Committee). This Committee advises the Secretary of Homeland Security, via the Commandant of the U.S. Coast Guard, on matters relating to personnel in the United States merchant marine, including the training, qualifications, certification, documentation, and fitness of mariners.

DATES: Completed applications must reach the U.S. Coast Guard on or before January 3, 2023.

ADDRESSES: Applications must be emailed to Mrs. Megan Johns Henry at megan.c.johns@uscg.mil, with the subject line “Application for NMERPAC.”

FOR FURTHER INFORMATION CONTACT: Mrs. Megan Johns Henry, Alternate Designated Federal Officer of the National Merchant Marine Personnel Advisory Committee; telephone 202-372-1255 or email at megan.c.johns@uscg.mil.

SUPPLEMENTARY INFORMATION: The National Merchant Marine Personnel Advisory Committee is a Federal advisory committee. The Committee was established on December 4, 2018, by section 601 of the Frank LoBiondo Coast Guard Authorization Act of 2018, Public Law 115-282, 132 Stat. 4192, (codified in 46 U.S.C. 15105). The Committee operates under the provisions of the Federal Advisory Committee Act, (5 U.S.C. Appendix), and 46 U.S.C. 15109. The Committee provides advice, consults with, and make recommendations to the Secretary of Homeland Security, via the Commandant of the U.S. Coast Guard, on matters relating to personnel in the United States merchant marine, including the training, qualifications, certification, documentation, and fitness of mariners.

The Committee is required to meet at least once a year in accordance with 46 U.S.C. 15109(a). We expect the Committee will hold meetings at least twice a year. The meetings are held at a location selected by the U.S. Coast Guard.

All members serve at their own expense and receive no salary or other compensation from the Federal Government. Members may be reimbursed for travel and per diem in accordance with Federal Travel Regulations.

Under provisions in 46 U.S.C. 15109(f)(6), if you are appointed as a member of the Committee, your membership term will expire on December 31st of the third full year after the effective date of your appointment. Members serve at the pleasure of the Secretary of Homeland Security and maybe be removed prior to the end of their term for just cause. The Secretary of Homeland Security may require an individual to have passed an appropriate security background examination before appointment to the Committee, 46 U.S.C. 15109(f)(4). Committee members are required to attend and participate in meetings regularly. Members may be recommended for removal if they miss two consecutive meetings without a valid reason that is acceptable to the Chair of the Committee and the Designated Federal Officer.

In this solicitation for Committee members, we will consider applications for the position of engineering officer who represents merchant marine engineering officers. Applicants must be United States citizens holding active licenses or certificates issued under 46 U.S.C. chapter 71, as an engineering officer licensed as a chief engineer any horsepower (applicants must currently hold a Merchant Mariner Credential endorsed as Chief Engineer of unlimited horsepower).

Each member of the Committee serves as a representative and must have particular expertise, knowledge, and experience on matters related to personnel in the United States merchant marine, including the training, qualifications, certification, documentation, and fitness of mariners.

In order for the Department of Homeland Security (DHS), to fully leverage broad-ranging experience and education, the Committee must be diverse with regard to professional and technical expertise. DHS is committed to pursuing opportunities, consistent with applicable law, to compose a committee that reflects the diversity of the nation's people.

If you are interested in applying to become a member of the Committee, email your application to megan.c.johns@uscg.mil provided in the ADDRESSES section of this notice. Applications must include: (1) a cover letter expressing interest in an appointment to the National Merchant Marine Personnel Advisory Committee; (2) a resume detailing the applicant's relevant experience; and (3) a brief biography of the applicant.

The U.S. Coast Guard will not consider incomplete or late applications.

Dated: November 28, 2022.
Benjamin J. Hawkins,
Deputy Director, Commercial Regulations and Standards.

[FR Doc. 2022-26223 Filed 12-1-22; 8:45 am]

BILLING CODE 9110-04-P